DEPARTMENT OF AGRICULTURE

Forest Service

Francis Marion Sumter National Forests Resource Advisory Committee

AGENCY: Forest Service, USDA.

ACTION: Notice of meeting.

SUMMARY: The Francis Marion Sumter National Forests Resource Advisory Committee will meet in Columbia, South Carolina. The committee is meeting as authorized under the Secure Rural Schools and Community Self-Determination Act (Pub. L. 110-343) and in compliance with the Federal Advisory Committee Act. The purpose of the meeting is to review proposals that were submitted for Title II funding.

DATES: The meeting will be held on February 3, 2010, and will begin at 9:30 a.m.

ADDRESSES: The meeting will be held at the Forest Service office, Large Conference Room, 4931 Broad River Road, Columbia, SC. Written comments should be sent to Mary Morrison, Francis Marion Sumter National Forests, 4931 Broad River Road, Columbia, SC 29212. Comments may also be sent via e-mail to mwmorrison@fs.fed.us, or via facsimile to 803-561-4004.

All comments, including names and addresses when provided, are placed in the record and are available for public inspection and copying. The public may inspect comments received at Francis Marion Sumter National Forests Office, 4931 Broad River Road, Columbia, SC 29212. Visitors are encouraged to call ahead to 803-561-4058 to facilitate review of the comments.

FOR FURTHER INFORMATION CONTACT: Mary Morrison, RAC coordinator, USDA, Francis Marion Sumter National Forests, 4931 Broad River Road, Columbia, SC 29212; (803) 561-4058; E-mail mwmorrison@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel; (2) Receive materials explaining the process for considering and recommending Title II projects; (3) Review and Recommend Title II proposals; and (4) Public Comment. Persons who wish to bring related matters to the attention of the Committee may file written statements with the Committee staff before or after the meeting.

Dated: January 3, 2011.
Paul Bradley,
Designated Federal Officer.

[FR Doc. 2011-340 Filed 1-10-11; 8:45 am]

BILLING CODE 3410-11-P